DEPARTMENT OF AGRICULTURE

Submission for OMB Review; Comment Request

November 23, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Cooperative State Research, Education, and Extension Service

Title: Expanded Food and Nutrition Education Program (EFNEP).

OMB Control Number: 0524-0044.

Summary of Collection: The Department of Agriculture's Cooperative State Research, Education, and Extension Service (CSREES), Expanded Food and Nutrition Education Program (EFNEP) is a unique program that began in 1969, designed to reach limited resource audiences, especially youth and families with young children. EFNEP operates in 50 states of the United States, American Samoa, Guam, Micronesia, and the Commonwealth of the Northern Marianas, the Commonwealth of Puerto Rico, and the Virgin Islands of the United States. The objectives of EFNEP are to assist limited resource families and youth in acquiring the knowledge, skills, attitudes, and changed behaviors necessary for making diet decisions that are nutritionally sound, and to contribute to their personal development and the improvement of the total family diet and nutritional well being.

Need and Use of the Information: CSREES will collect information using the Evaluation/Reporting System (E/RS) a database that was develop to capture the impacts of EFNEP. The system will provide a variety of reports that are useful for management purposes, provide diagnostic assessments of participants needs and export summary data for State and National assessment of the program's impact. E/RS stores information in the form of records about the program participants, their family structure and their dietary practices. Without the information it would be extremely difficult for the national office to compare, assess, and analyze the effectiveness and the impact of EFNEP without the annual collection of data.

Description of Respondents: State, Local or Tribal Government.

Number of Respondents: 56.

Frequency of Responses: Recordkeeping; Reporting: Annually.

Total Burden Hours: 69,588.

Charlene Parker,
Departmental Information Collection Clearance Officer.

[FR Doc. E5-6665 Filed 11-28-05; 8:45 am]

BILLING CODE 3410-09-P